OFFICE OF PERSONNEL MANAGEMENT

5 CFR Part 532

RIN 3206-AO15

Prevailing Rate Systems; Conduct of Local Wage Surveys

AGENCY: Office of Personnel Management.

ACTION: Final rule.

SUMMARY: On March 1, 2021, the Office of Personnel Management issued an interim final rule to amend regulations to allow for additional options to collect wage data during Federal Wage System full-scale and wage change surveys, namely, by personal visit, telephone, mail, or electronic means. This change is based on a majority recommendation of the Federal Prevailing Rate Advisory Committee and was initiated by a Department of Defense request for greater flexibility to obtain accurate and timely prevailing wage data in local labor markets during and after the national emergency caused by the COVID-19 health crisis. This document adopts the interim rule as final without change.

DATES: Effective October 15, 2021.

FOR FURTHER INFORMATION CONTACT: Mark Allen, by telephone at (202) 606-2858 or by email at pay-leave-policy@opm.gov.

SUPPLEMENTARY INFORMATION: On March 1, 2021, OPM issued an interim final rule (86 FR 11857) to amend the regulatory provisions in part 532 of title 5, Code of Federal Regulations (CFR), which require in-person visits by data collectors to private industrial establishments for Federal Wage System (FWS) full-scale wage surveys. The interim final rule amended sections 5 CFR 532.201, 532.207, 532.235, and 532.247.

The amended regulations will provide additional options to collect wage data during full-scale and wage change surveys, namely, by personal visit, telephone, mail, or electronic means, even though the preferred method continues to be personal visits.

The 30-day comment period ended on March 31, 2021. OPM received two comments in support of the collection of data by alternate means and eight comments that are beyond the scope of this rule.

Regulatory Impact Analysis

OPM has examined the impact of this rule as required by Executive Order 12866 and Executive Order 13563, which direct agencies to assess all costs and benefits of available regulatory alternatives and, if regulation is necessary, to select regulatory approaches that maximize net benefits (including potential economic, environmental, public, health, and safety effects, distributive impacts, and equity). A regulatory impact analysis must be prepared for major rules with economically significant effects of $100 million or more in any 1 year. This rule is not a “significant regulatory action,” under Executive Order 12866.

Regulatory Flexibility Act

OPM certifies that this rule will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

The Congressional Review Act (5 U.S.C. 801 et seq.) requires rules (as defined in 5 U.S.C. 804) to be submitted to Congress before taking effect. OPM will submit to Congress and the Comptroller General of the United States a report regarding the issuance of this action before its effective date, as required by 5 U.S.C. 801. This action is not major as defined by the Congressional Review Act (CRA) (5 U.S.C. 804).

Paperwork Reduction Act

While this rule does not impose any new reporting or record-keeping requirements subject to the Paperwork Reduction Act, the following collections will be affected: Establishment Information Form (DD 1918), Wage Data Collection Form (DD 1919), and Wage Data Collection Continuation Form (DD 1919C)—OMB Control Number: 3206-0036. The systems of record notice for this collection is: https://www.opm.gov/information-management/privacy-policy/sorn/opm-sorn-central-1-civil-service-retirement-and-insurance-records.pdf.

The survey and its methodology does not change based on this rule. Therefore burden and cost estimates remain the same. While we do not expect the respondent burden to increase or decrease through this change in procedure, in the long term, there may be some savings on travel costs. OPM note the the decision to use alternative data collection methods than in-person visits will reside with the local wage survey committee any cost savings are currently unknowable.

List of Subjects in 5 CFR Part 532

Administrative practice and procedure, Freedom of information, Government employees, Reporting and recordkeeping requirements, Wages.

Office of Personnel Management.
Alexys Stanley,
Regulatory Affairs Analyst.

Accordingly, the interim rule published March 1, 2021, at 86 FR 11857, is adopted as final without change.

[FR Doc. 2021-22512 Filed 10-14-21; 8:45 am]

BILLING CODE 6325-39-P